DEPARTMENT OF HOMELAND SECURITY

Coast Guard

33 CFR Part 100

[CGD09-07-065]

Special Local Regulations: Captain of the Port Detroit Zone

AGENCY: Coast Guard, DHS.

ACTION: Notice of Enforcement of final rule.

SUMMARY: The Coast Guard is implementing special local regulations for annual Marine Events in the Captain of the Port Detroit Zone during June and July, 2007. This action is necessary to provide for the safety of life and property on navigable waters during these events. These special local regulations will restrict vessel traffic from a portion of the Captain of the Port Detroit Zone.

DATES: Effective from 12:01 a.m. on June 1, 2007 to 11:59 p.m. on July 31, 2007.

FOR FURTHER INFORMATION CONTACT: LT Jeff Ahlgren, Waterways Management, U.S. Coast Guard Sector Detroit, 110 Mount Elliot Ave., Detroit MI, 48207; (313)568-9580.

SUPPLEMENTARY INFORMATION: The Coast Guard will be enforcing the permanent special local regulations in 33 CFR 100.901 (published July 13, 1989, in the Federal Register, 54 FR 29547, as amended), for marine events in the Captain of the Port Detroit Zone during June and July, 2007. The following special local regulations will be enforced for marine events occurring in June and July, 2007:

(1) International Bay City River Roar, Bay City, MI. Location: That portion of the Saginaw River from the Liberty Bridge on the north to the Veteran's Memorial Bridge on the south, near Bay City, MI on June 22-24, 2007 from 8 a.m. to 6 p.m. each day. If an additional day is needed for this event due to inclement weather, the special local regulations will also be enforced on June 25, 2007 from 8 a.m. to 6 p.m.

(2) International Freedom Festival Tug Across the River, Detroit, MI. Location: That portion of the Detroit River bounded on the south by the International boundary, on the west by 083° 03′W, on the east by 083° 02′W, and on the North by the U.S. shoreline on July 15, 2007 from 12:30 p.m. to 2:30 p.m.

(3) Bay City Fireworks Display, Bay City, MI. Location: Saginaw River, from the Veteran's Memorial Bridge to approximately 1,000 yards south to the River Walk Pier, near Bay City, MI on July 1-3, 2007 from 10 p.m. to 11 p.m. each night. If an additional day is needed for this event due to inclement weather, the special local regulations will also be enforced on July 4, 2007 from 10 p.m. to 11 p.m.

(4) Detroit APBA Gold Cup Race, Detroit, MI. Location: Detroit River, between Belle Isle and the U.S. shoreline, near Detroit, MI. Bound on the west by the Belle Isle Bridge and on the east by a north-south line drawn through the Waterworks Intake Crib Light (LLNR 1022) on July 13-15, 2007 from 7 a.m. to 7 p.m. each day.

In order to ensure the safety of spectators and transiting vessels, these special local regulations found at 33 CFR 100.901 (a)-(e) will be enforced for the duration of the events. In the event that these special local regulations affect shipping, commercial vessels may request permission from the Captain of the Port Detroit to transit through the regulated area. Requests must be made in advance and approved by the Captain of Port before transits will be authorized. The Captain of the Port may be contacted via U.S. Coast Guard Sector Detroit on channel 16, VHF-FM. The Coast Guard will give notice to the public via a Broadcast to Mariners that the regulation is in effect.

This notice is issued under authority of 33 CFR 100.901 and 5 U.S.C. 552(a).

Dated: June 20, 2007.
P.W. Brennan,
Captain, U.S. Coast Guard, Captain of the Port Detroit.

[FR Doc. E7-13367 Filed 7-9-07; 8:45 am]

BILLING CODE 4910-15-P